DEPARTMENT OF TRANSPORTATION

Federal Aviation Administration

Public Notice for Waiver of Aeronautical Land-Use Assurance; Delta County Airport, Escanaba, MI

AGENCY: Federal Aviation Administration, DOT.

ACTION: Notice of intent of waiver with respect to land.

SUMMARY: The Federal Aviation Administration (FAA) is considering a proposal to change a portion of the airport from aeronautical use to non-aeronautical use and to authorize the lease of the airport property. The proposal consists of 1 parcel of land, totaling approximately 19.49 acres. Current use and present condition is undeveloped land compatible with local commercial/industrial zoning classification. The land was acquired under the FAA Project Numbers 3-26-0031-1798 and 3-26-0031-1899. There are no impacts to the airport by allowing the airport to lease of the property. Subject land may provide good commercial/industrial development opportunities for the community and are well outside airport perimeter fence limits. Approval does not constitute a commitment by the FAA to financially assist in the lease of the subject airport property nor a determination of eligibility for grant-in-aid funding from the FAA. The disposition of proceeds from the lease of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before August 12, 2005.

FOR FURTHER INFORMATION CONTACT: Mr. Marlon D. Peña, Program Manager, Federal Aviation Administration, Great Lakes Region, Detroit Airports District Office, DET-ADO 610, 11677 South Wayne Road, Romulus, Michigan 48174. Telephone Number (734) 229-2909/FAX Number (734) 229-2950. Documents reflecting this FAA action may be reviewed at this same location or at Delta County Airport, Escanaba, Michigan.

SUPPLEMENTARY INFORMATION: Following is a legal description of the property located in Escanaba, Delta County, Michigan, and described as follows:

Parcel 1 Part of Government Lot 1 of Section 1 T.38N., R.23W., (Part A)

From the E¼ corner of Section 1 T.38N., R.23W., measure S.89°48′48″ W. along the North line of Government Lot 1 of said Section a distance of 56.09 feet to a point on the Westerly Right-of-Way line of State Highway M-35 and the point of beginning of the land herein described, thence Southwesterly along said right-of-way line on a 1,372.39 foot radius curve to the right a chord bearing of S.35°20′44″ W. a chord distance of 1,137.28 feet to a point that is 725.00 feet West of the East line of said Section 1, thence N.00°40′46″ W. parallel with said East line a distance of 235.54 feet, thence S.89°48′48″ W. parallel with said North line a distance of 75.00 feet, thence S.00°40′46″ E. parallel with said East line a distance of 275.61 feet to a point on said Westerly right-of-way line, thence Southwesterly along said right-of-way line on 1,372.39 foot radius curve to the right a chord bearing of S.63°49′26″ W. a chord distance of 22.16 feet to a point that is 820.00 feet West of said East line, thence N.00°40′46″ W. parallel with said East line a distance of 955.32 feet to a point that is 20.00 feet South of the North line of said Government Lot, thence N.89°48′48″ E. parallel with said North line a distance of 445.00 feet, thence N.00°40′46″ W. parallel with said East line a distance of 20.00 feet to a point on said North line, thence N.39°48′48″ E. along said North line a distance of 318.91 feet to the point of beginning. Containing 10.70 acres.

Parcel 1 Part of Government Lot 1 of Section 1 T.38N., R.23W., (Part B)

From the E¼ corner of Section 1 T.38N., R.23W., measure S.89°48′48″ W. along the North line of Government Lot 1 of said Section a distance of 820.00 feet to the point of beginning of the land herein described, thence S.0°40′46″ E. parallel with the East line of said Section a distance of 500.00 feet, thence S.89°48′48″ W. parallel with said North line a distance of 250.00 feet, thence S.0°40′46″ E. parallel with said East line a distance of 568.08 feet to a point on the North Right-of-Way line of State Highway M-35, thence S.72°02′59″ W. along said right-of-way line a distance of 206.99 feet, thence N.7°30′53″ W. a distance of 472.26 feet to a point on the West line of said Government Lot, thence N.0°03′32″ W. along said West line a distance of 622.86 feet to the NW corner of said Government Lot, thence N.89°48′48″ E. along the North line of said Government Lot a distance of 496.67 feet to the point of beginning. Containing 8.79 acres.

Issued in Romulus, Michigan on July 13, 2005.
Irene R. Porter,
Manager, Detroit Airports District Office, FAA, Great Lakes Region.

[FR Doc. 05-14759 Filed 7-26-05; 8:45 am]

BILLING CODE 4910-13-M